DEPARTMENT OF TRANSPORTATION

Federal Motor Carrier Safety Administration

49 CFR Parts 390 and 391

[Docket No. FMCSA-2008-0363]

RIN 2126-AA97

National Registry of Certified Medical Examiners

ACTION: Notice of availability of draft guidance; request for comments.

SUMMARY: FMCSA announces the availability for public review and comment draft guidance for the core curriculum specifications that could be used by training providers in implementing the National Registry of Certified Medical Examiners (National Registry) proposed rule. The National Registry is required by section 4116 of the Safe, Accountable, Flexible, Efficient Transportation Equity Act: A Legacy for Users (SAFETEA-LU). On December 1, 2008, the Agency published a Notice of Proposed Rulemaking to implement the National Registry and the proposal included minimum training requirements for medical examiners. The draft guidance announced by this notice would provide core curriculum specifications as additional information for training organizations that may need such assistance in developing training courses and materials consistent with the proposed minimum training requirements.

DATES: Comments and related material must be submitted on or before June 16, 2011.

ADDRESSES: You may submit comments identified by docket number FMCSA-2008-0363 using any one of the following methods:

• Federal eRulemaking Portal: http://www.regulations.gov.

• Fax: 202-493-2251.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: Dr. Mary Gunnels at 202-366-4001 or via e-mail at fmcsamedical@dot.gov.

SUPPLEMENTARY INFORMATION: Public Participation and Request for Comments: We encourage you to submit comments and related material on the draft guidance for the core curriculum specifications. All comments received will be posted, without change, to http://www.regulations.gov and will include any personal information you have provided.

Submitting comments: If you submit a comment, please include the docket number for this notice (FMCSA-2008-0363) and provide a reason for each suggestion or recommendation. You may submit your comments and material online by fax, mail, or hand delivery but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “FMCSA-20008-0363” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “FMCSA-2008-0363” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays.

Privacy Act: Anyone is able to search the electronic form for all comments received into any of our dockets by the name of the individual submitting the comment (or signing the comment, if submitted on behalf of an association, business, labor union, etc.). You may review the U.S. Department of Transportation's (DOT) Privacy Act system of records notice for DOT Federal Docket Management System (FDMS) in the Federal Register published on January 17, 2008 (73 FR 3316) at http://edocket.access.gpo.gov/2008/pdf/E8-785.pdf.

Background

On December 1, 2008, FMCSA published a Notice of Proposed Rulemaking (NPRM) for the establishment of a National Registry of Certified Medical Examiners (National Registry), 73 FR 73129. The National Registry and requirements for medical examiner training are required by section 4116 of SAFETEA-LU, as codified in 49 U.S.C. 31136(a)(3), and 49 U.S.C. 31149(c) and (d).

One of the components proposed in the NPRM was a provision that medical examiners would be required to successfully complete certain training and testing prior to being listed on the National Registry. The training would be based on “core curriculum specifications” developed by FMCSA. In the NPRM, FMCSA stated that the core curriculum specifications would be based on the current physical qualifications regulations and advisory criteria for conducting commercial motor vehicle (CMV) driver medical examinations and that they would be periodically reviewed and updated by FMCSA. The Agency also said it would provide to private-sector training organizations guidance about the core curriculum specifications for use in delivering effective training to medical examiners about FMCSA's physical qualification standards. See 73 FR 73132-33. However, the Agency did not include for public comment the guidance about the core curriculum specifications that would be made available to assist training providers in developing courses and training materials.

Several comments submitted in response to the NPRM expressed concern that the Agency did not provide more information about the core curriculum in the proposed rule for public review and comment and questioned how guidance for training providers would be established and implemented. FMCSA acknowledges the commenters' concerns about the need for providing the public with an opportunity to review any draft guidance that would be provided for training providers about the core curriculum specifications. Therefore, FMCSA has completed draft guidance for the medical examiner training core curriculum specifications and posted the guidance on the National Registry Web site (http://nrcme.fmcsa.dot.gov) and in the public docket for the National Registry rulemaking and this notice (FMCSA-2008-0363).

FMCSA requests public comment on the draft guidance for the medical examiner proposed core curriculum specifications. Because the guidance is intended to be used as information to assist training providers in developing effective, up-to-date courses for medical examiners, it would be subject to periodic review and change based on any future amendments or revisions to the physical qualifications standards under 49 CFR part 391 issued by FMCSA, and changes in medical procedures and treatments incorporated into the Agency's advisory criteria. For that reason, the Agency does not intend to incorporate the core curriculum specifications into the regulatory text of the NRCME final rule that is expected to be issued later in 2011.

The Agency will consider including in the notice-and-comment rulemaking procedures that would be used to propose amendments or revisions to the actual physical qualifications standards any changes to the guidance for the core curriculum specifications. The Agency requests public comment on its preliminary decision.

Please follow the above instructions for submitting comments to the docket (FMCSA-2008-0363) commenting on the medical examiner draft training specifications. While FMCSA will consider all comments, FMCSA specifically requests that commenters focus on improving the clarity, and accuracy of the draft guidance to the proposed core curriculum specifications.

In addition to the draft guidance for the core curriculum specifications, FMCSA has posted a sample training module on the National Registry Web site (http://nrcme.fmcsa.dot.gov) to assist training providers in developing a curriculum that meets the training specifications.

Dated: May 11, 2011.
Anne S. Ferro,
Administrator.

[FR Doc. 2011-11934 Filed 5-16-11; 8:45 am]

BILLING CODE 4910-EX-P